FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Ann E. Misback, Secretary of the Board, 20th Street and Constitution Avenue NW, Washington, DC 20551-0001, not later than October 31, 2024.

A. Federal Reserve Bank of Kansas City (Jeffrey Imgarten, Assistant Vice President) 1 Memorial Drive, Kansas City, Missouri 64198-0001. Comments can also be sent electronically to KCApplicationComments@kc.frb.org:

1. Theodore Elam, as co-trustee of the Caroline L. Cameron 2005 GSTE Trust, the Liza A. Cameron 2005 GSTE Trust, the Claire J. Cameron 2005 GSTE Trust, and the Camellia Cameron 2005 GSTE Trust, all of Oklahoma City, Oklahoma, (collectively, the “Separated Lynda L. Cameron Family Trusts”); to acquire voting shares of First Fidelity Bancorp, Inc., and thereby indirectly acquire voting shares of First Fidelity Bank, both of Oklahoma City, Oklahoma.

In addition, the William Cameron Legacy Trust, Oklahoma City, Oklahoma, Brian Raftery, as trustee, Westfield, New Jersey; and the Separated Lynda L. Cameron Family Trusts; to join the Cameron Family Group, a group acting in concert, to acquire voting shares of First Fidelity Bancorp, Inc., and thereby indirectly acquire voting shares of First Fidelity Bank. Theodore Elam was previously permitted by the Federal Reserve System to become a member of the Cameron Family Group.

2. Chat Carleton York, as Business Advisor and Direction Advisor, Fort Worth, Texas; David Keese, as Direction Advisor, McKinney, Texas; Greg Massey, as Special Power Holder, Durant, Oklahoma; and Argent Trust Company, Nashville, Tennessee, as trustee of the following trusts: John L. Massey 2003 Exempt Family Trust FBO Abigail R. Massey, the John L. Massey 2003 Exempt Family Trust FBO Boaz A. Massey, the John L. Massey 2003 Exempt Family Trust FBO Charity A. Massey, the John L. Massey 2003 Exempt Family Trust FBO Dara R. Massey, the John L. Massey 2003 Exempt Family Trust FBO Elizabeth J. Massey, the John L. Massey 2003 Exempt Family Trust FBO Faith S. Massey, the John L. Massey 2003 Exempt Family Trust FBO Gabriel J. Massey, the John L. Massey 2003 Exempt Family Trust FBO Isaiah B. Massey, the John L. Massey 2003 Exempt Family Trust FBO John M. Massey, Jr., the John L. Massey 2003 Exempt Family Trust FBO Micah N. B. Massey, the Gregory L Massey 2003 Exempt Trust, the Gregory L. and Laura K. Massey 2012 Family Trust FBO Blake L. Massey, the Gregory L. and Laura K. Massey 2012 Family Trust FBO Brooke E. Massey, and the Gregory L. and Laura K. Massey 2012 Family Trust FBO Gregory Corbin Massey, all of Nashville, Tennessee; to acquire voting shares of Spend Life Wisely Company, Inc. (the “Company”), and thereby indirectly acquire First United Bank and Trust Company (the “Bank”), both of Durant, Oklahoma. Greg Massey was previously permitted by the Federal Reserve System to acquire control of voting shares of the Company.

In addition, Abigail R. Massey, North Pole, Arkansas, as special power holder of the John L. Massey 2003 Exempt Family Trust FBO Abigail R. Massey; Boaz A. Massey, Shawnee, Oklahoma, as special power holder of the John L. Massey 2003 Exempt Family Trust FBO Boaz A. Massey; Charity A. Massey, Shawnee, Oklahoma, as special power holder of the John L. Massey 2003 Exempt Family Trust FBO Charity A. Massey; Dara R. Massey, Shawnee, Oklahoma, as special power holder of the John L. Massey 2003 Exempt Family Trust FBO Dara R. Massey; Elizabeth J. Massey, Celina, Texas, as special power holder of the John L. Massey 2003 Exempt Family Trust FBO Elizabeth J. Massey; Faith S. Massey, Roseburg, Oregon, as special power holder of the John L. Massey 2003 Exempt Family Trust FBO Faith S. Massey; Gabriel J. Massey, Shawnee, Oklahoma, as special power holder of the John L. Massey 2003 Exempt Family Trust FBO Gabriel J. Massey; Isaiah B. Massey, Shawnee, Oklahoma, as special power holder of the John L. Massey 2003 Exempt Family Trust FBO Isaiah B. Massey; John M. Massey, Jr., Shawnee, Oklahoma, as special power holder of the John L. Massey 2003 Exempt Family Trust FBO John M. Massey, Jr.; and Michah N.B. Massey, Shawnee, Oklahoma, as special power holder of the John L. Massey 2003 Exempt Family Trust FBO Micah N. B. Massey; to become members of the Massey Family Group, a group acting in concert, to acquire voting shares in the Company, and thereby indirectly acquire voting shares of the Bank.

Finally, Blake L. Massey, Southaven, Mississippi, individually, and as special power holder of the Gregory L. and Laura K. Massey 2012 Family Trust FBO Blake Massey; and Brooke Massey Chilton, Melissa, Texas, individually, and as special power holder of the Gregory L. and Laura K. Massey 2012 Family Trust FBO Brooke Massey; to become members of the Massey Family Group, a group acting in concert, to retain voting shares of the Company, and thereby indirectly retain voting shares of the Bank.

Board of Governors of the Federal Reserve System.
Michele Taylor Fennell,
Associate Secretary of the Board.

[FR Doc. 2024-23856 Filed 10-15-24; 8:45 am]

BILLING CODE P